DEPARTMENT OF COMMERCE

Foreign-Trade Zones Board

[B-50-2017]

Foreign-Trade Zone (FTZ) 98—Birmingham, Alabama; Notification of Proposed Production Activity; Brose North America Inc. (Automotive Seats, Drives and Door Frames); Vance, Alabama

Brose North America Inc. (Brose) submitted a notification of proposed production activity to the FTZ Board for its facility in Vance, Alabama within FTZ 98. The notification conforming to the requirements of the regulations of the FTZ Board (15 CFR 400.22) was received on August 2, 2017.

The applicant indicates that it will be submitting a separate application for FTZ designation at the Brose facility under FTZ 98. The facility is used for the production of seats, drives, and door frames for the automotive industry. Pursuant to 15 CFR 400.14(b), FTZ activity would be limited to the specific foreign-status materials and components and specific finished products described in the submitted notification (as described below) and subsequently authorized by the FTZ Board.

Production under FTZ procedures could exempt Brose from customs duty payments on the foreign-status components used in export production. On its domestic sales, for the foreign-status materials/components noted below, Brose would be able to choose the duty rates during customs entry procedures that apply to: Seat frames; seat adjusters for motor vehicles powered with electric DC motors; seat pans; cooling fans for automobiles; and, doors for automobiles (duty rate ranges from duty-free to 2.5%). Brose would be able to avoid duty on foreign-status components which become scrap/waste. Customs duties also could possibly be deferred or reduced on foreign-status production equipment.

The components and materials sourced from abroad include: Plastic tubes and hoses; plastic tube protectors; decals; plastic spacers and other articles of plastic; rubber spacers; labels; steel self-tapping screws; screw and nut assemblies; steel locking lugnuts; steel torsion spring washers and lock washers; steel rivets; metal fasteners; steel cable drum wires; steel metal clips; locks; base metal mountings; steel brackets; metal mounting for seats; steel tubular rivets; steel bearing balls; plain shaft bearings with housings; gear boxes; gears and gearing; gearing housings; synchronous electric DC motors of an output under 18.65 watts; electric DC motors of an output not exceeding 37.5 watts; universal AC/DC motors of an output between 37.5 watts and 746 watts; DC motors of an output between 37.5 watts and 14.92 kilowatts; DC generators; multi-phase AC motors exceeding 74.6 watts but not exceeding 735 watts; electrical lighting or signaling equipment; electrical circuit switching and protection components; vehicle body stampings; lock rods; lock actuators; guide rails for door assemblies; measuring instruments; seat frames; seat pans; coated cross tubes; side panels; slider assemblies; and ink ribbons used for printers (duty rate ranges from duty-free to 8.5%).

Public comment is invited from interested parties. Submissions shall be addressed to the Board's Executive Secretary at the address below. The closing period for their receipt is September 18, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: August 3, 2017.
Andrew McGilvray,
Executive Secretary.

[FR Doc. 2017-16791 Filed 8-8-17; 8:45 am]

BILLING CODE 3510-DS-P